DEPARTMENT OF THE TREASURY

Bureau of Alcohol, Tobacco and Firearms

27 CFR Parts 200, 270, 275 and 290

[Notice No. 893: Ref: Notice No. 887]

RIN 1512-AB99

Implementation of Public Law 105-33, Section 9302, Relating to Tobacco Importation Restrictions, Markings, Minimum Manufacturing Requirements, and Penalty Provisions (98R-369P)

AGENCY: Bureau of Alcohol, Tobacco and Firearms (ATF), Department of the Treasury.

ACTION: Notice of proposed rulemaking; reopening of comment period.

SUMMARY: This notice reopens the comment period for Notice No. 887, a notice of proposed rulemaking cross-referenced to temporary regulations, published in the Federal Register on December 22, 1999. ATF has received several requests to extend the comment period in order to provide sufficient time for all interested parties to respond to the issues raised in the notice.

DATES: Written comments must be received by April 20, 2000.

ADDRESSES: Send written comments to: Chief, Regulations Division, Bureau of Alcohol, Tobacco and Firearms, P.O. Box 50221, Washington, DC 20091-0221; Notice No. 893.

FOR FURTHER INFORMATION CONTACT: Mr. Daniel J. Hiland, Regulations Division, Bureau of Alcohol, Tobacco and Firearms, 650 Massachusetts Avenue, NW, Washington, DC 20226; Telephone (202) 927-8210.

SUPPLEMENTARY INFORMATION: On December 22, 1999, ATF published a notice of proposed rulemaking cross-referenced to temporary regulations in the Federal Register. The notice solicited comments from all interested persons regarding temporary regulations that implemented several provisions of the Balanced Budget Act of 1997. Section 9302 of the new law: (1) Places restrictions on the importation of previously exported tobacco products, (2) requires markings on tobacco products or cigarette papers and tubes removed or transferred without payment of the federal excise tax, (3) provides penalties for selling, relanding, or receiving, within the jurisdiction of the United States, tobacco products or cigarette papers and tubes which have been labeled and shipped for exportation and were removed after the effective date, and (4) authorizes the Secretary to prescribe minimum capacity or activity requirements as a criteria for issuance of a manufacturer's permit. These new provisions of law became effective on January 1, 2000.

The temporary rule implemented these changes in law by providing new and amended regulations in parts 200, 270, 275 and 290 of title 27 of the Code of Federal Regulations (CFR). Additionally, the Bureau of Alcohol, Tobacco and Firearms (ATF) made several other clarifying changes to the tobacco regulations. The temporary rule will remain in effect until superseded by final regulations.

The comment period for Notice 887 closed on February 22, 2000. Prior to the close of the comment period, ATF received several requests to extend the comment period for an additional 30 days. Several interested parties stated that they would need additional time to prepare a full response for their company or client.

In consideration of the above, ATF finds that a reopening of the comment period is warranted. Therefore, the comment period is being reopened for an additional 30 days until April 20, 2000. The Bureau believes that a comment period totaling 90 days is a sufficient amount of time for all interested parties to respond.

Disclosure

Copies of this notice, Notice No. 887, and the written comments will be available for public inspection during normal business hours at: ATF Public Reading Room, Room 6480, 650 Massachusetts Avenue, NW, Washington, DC.

Drafting Information. This notice was written by Mr. Daniel Hiland, Regulations Division, Bureau of Alcohol, Tobacco and Firearms.

List of Subjects

27 CFR Part 200

Administrative practice and procedure, Authority delegations.

27 CFR Part 270

Administrative practice and procedure, Authority delegations, Cigarette papers and tubes, Claims, Electronic fund transfer, Excise taxes, Labeling, Packaging and containers, Penalties, Reporting requirements, Seizures and forfeitures, Surety bonds, Tobacco products.

27 CFR Part 275

Administrative practice and procedure, Authority delegations, Cigarette papers and tubes, Claims, Customs duties and inspection, Electronic fund transfer, Excise taxes, Imports, Labeling, Packaging and containers, Penalties, Reporting requirements, Seizures and forfeitures, Surety bonds, Tobacco products, U.S. possessions, Warehouses.

27 CFR Part 290

Administrative practice and procedure, Aircraft, Authority delegations, Cigarette papers and tubes, Claims, Customs duties and inspection, Excise taxes, Exports, Foreign trade zones, Labeling, Packaging and containers, Penalties, Surety bonds, Tobacco products, Vessels, Warehouses.

Authority and Issuance.

This notice is issued under the authority in 26 U.S.C. 7805.

Dated: March 15, 2000.
Bradley A. Buckles,
Director, Bureau of Alcohol, Tobacco and Firearms.

[FR Doc. 00-6996 Filed 3-20-00; 8:45 am]

BILLING CODE 4810-31-U